DEPARTMENT OF TRANSPORTATION

Federal Aviation Administration

14 CFR Part 39

[Docket No. 2003-CE-09-AD; Amendment 39-13088; AD 2003-06-01]

RIN 2120-AA64

Airworthiness Directives; Air Tractor, Inc. Models AT-300, AT-301, AT-302, AT-400, and AT-400A Airplanes

AGENCY: Federal Aviation Administration, DOT.

ACTION: Final rule; request for comments.

SUMMARY: This amendment supersedes Airworthiness Directive (AD) 2002-13-02, which applies to all Air Tractor, Inc. (Air Tractor) Models AT-300, AT-301, AT-302, and AT-400A airplanes that have aluminum spar caps; certain Air Tractor Models AT-400 airplanes that have aluminum spar caps; and all Models AT-300 and AT-301 airplanes that have aluminum spar caps and are or have been converted to turbine power. AD 2002-13-02 currently requires you to inspect (one-time) the wing centerline splice joint for cracks and, if any crack is found, replace the affected wing spar lower cap; requires you to report the results of the inspection to the Federal Aviation Administration (FAA); and requires you to replace the wing spar lower caps after a certain amount of usage. Based upon the inspection results from AD 2002-13-02, FAA has determined that the mandatory wing spar lower cap replacement times should be reduced. This AD maintains the wing spar lower cap replacement and reporting requirements from AD 2002-13-02 and reduces the compliance time of these replacements. The actions specified by this AD are intended to detect and correct cracks in the wing centerline splice joint. If not detected and corrected, these cracks could eventually result in the wing separating from the airplane during flight.

DATES: This AD becomes effective on April 4, 2003.

The Director of the Federal Register approved the incorporation by reference of certain publications listed in the regulations as of April 4, 2003.

The Federal Aviation Administration (FAA) must receive any comments on this rule on or before April 25, 2003.

ADDRESSES: Submit comments to FAA, Central Region, Office of the Regional Counsel, Attention: Rules Docket No. 2003-CE-09-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2003-CE-09-AD” in the subject line. If you send comments electronically as attached electronic files, the files must be formatted in Microsoft Word 97 for Windows or ASCII text.

You may get the service information referenced in this AD from Air Tractor, Inc., P.O. Box 485, Olney, Texas 76374. You may view this information at FAA, Central Region, Office of the Regional Counsel, Attention: Rules Docket No. 2003-CE-09-AD, 901 Locust, Room 506, Kansas City, Missouri 64106; or at the Office of the Federal Register, 800 North Capitol Street, NW., Suite 700, Washington, DC.

FOR FURTHER INFORMATION CONTACT: Andy McAnaul, Aerospace Engineer, FAA, Fort Worth Airplane Certification Office, 2601 Meacham Boulevard, Fort Worth, Texas 76193-0150; telephone: (817) 222-5156; facsimile: (817) 222-5960.

SUPPLEMENTARY INFORMATION:

Discussion

Has FAA taken any action to this point? An incident on an Air Tractor Model AT-400A where the wing separated from the airplane caused FAA to issue AD 2002-13-02, Amendment 39-12789 (67 FR 44024, July 1, 2002). Investigation reveals that the right-hand lower spar cap failed due to fatigue at the ⅜-inch outboard bolt, which is located 6.5 inches outboard of the fuselage centerline.

The following airplanes have a similar type design to that of the accident airplane:

—All Models AT-300, AT-301, AT-302, and AT-400A airplanes that have aluminum spar caps;

—Air Tractor Models AT-400 airplanes, serial numbers 400-0244 through 400-0415, that have aluminum spar caps; and

—All Models AT-300 and AT-301 airplanes that have aluminum spar caps and are or have been converted to turbine power.

AD 2002-13-02 currently requires you to inspect (one-time) the wing centerline splice joint for cracks and, if any crack is found, replace the affected wing spar lower cap; report the results of the inspection to FAA; and replace the wing spar lower caps after a certain amount of usage.

Accomplishment of these actions is required in accordance with Snow Engineering Co. Process Specification 197, dated February 23, 2001, Revised May 1, 2002, and Revised May 3, 2002; and Snow Engineering Co. Service Letter #220, dated May 3, 2002.

What has happened since AD 2002-13-02 to initiate this action? AD 2002-13-02 required you to report to FAA the results of the one-time inspection of wing spar lower caps. Through these AD inspections, a Model AT-400A airplane had a cracked spar cap where the damage was sufficient to require spar cap replacement. Based upon this damage and the AD 2002-13-02 inspection results, we have determined that the mandatory wing spar lower cap replacement time for the affected turbine engine powered airplanes should be reduced.

The manufacturer has revised or issued the following service information to address this situation:

—Snow Engineering Co. Service Letter #55, Revised October 23, 2002, which includes revised procedures and information for accomplishing a wing lower spar cap splice rework on all AT-300 and AT-301 series airplanes;

—Snow Engineering Co. Service Letter #70, Revised October 23, 2002, which addresses questions about all serial number airplanes beginning with 0041 as they pertain to the wing lower spar cap splice rework specified in Snow Engineering Co. Service Letter #55;

—Snow Engineering Co. Service Letter #226, dated December 17, 2002, which specifies the lower replacement time for the turbine engine powered airplanes;

—Snow Engineering Process Specification Number 197, Revised June 4, 2002, which provides procedures for accomplishing eddy current inspections of the wing lower spar caps; and

—Snow Engineering Co. Service Letter #220, dated December 17, 2002, which specifies the eddy current inspection in Snow Engineering Process Specification Number 197 and includes procedures for completing this inspection.

The FAA's Determination and an Explanation of the Provisions of This AD

What has FAA decided? The FAA has reviewed all available information, including the service information referenced above; and determined that:

—the unsafe condition referenced in this document exists or could develop on type design Air Tractor Models AT-300, AT-301, AT-302, AT-400, and AT-400A;

—the actions specified in the previously-referenced service information should be accomplished on the affected airplanes; and

—AD action should be taken in order to correct this unsafe condition.

What does this AD require? This AD supersedes AD 2002-13-02 with a new AD that:

—requires you to replace the wing spar lower caps after a certain amount of usage;

—allows you to extend the time for replacement on certain airplanes if a wing lower spar cap splice rework is accomplished;

—allows you to repetitively inspect your airplane until the wing lower spar caps can be replaced provided no cracks are found and only a certain number of inspections are accomplished; and

—requires you to report any cracks found during the inspections to FAA.

In preparation of this rule, we contacted type clubs and aircraft operators to obtain technical information and information on operational and economic impacts. We did not receive any information through these contacts. If received, we would have included, in the rulemaking docket, a discussion of any information that may have influenced this action.

Will I have the opportunity to comment prior to the issuance of the rule? Because the unsafe condition described in this document could result in the wing separating from the airplane during flight, we find that notice and opportunity for public prior comment are impracticable. Therefore, good cause exists for making this amendment effective in less than 30 days.

Comments Invited

How do I comment on this AD? Although this action is in the form of a final rule and was not preceded by notice and opportunity for public comment, FAA invites your comments on the rule. You may submit whatever written data, views, or arguments you choose. You need to include the rule's docket number and submit your comments to the address specified under the caption ADDRESSES. We will consider all comments received on or before the closing date specified above. We may amend this rule in light of comments received. Factual information that supports your ideas and suggestions is extremely helpful in evaluating the effectiveness of the AD action and determining whether we need to take additional rulemaking action.

Are there any specific portions of the AD I should pay attention to? We specifically invite comments on the overall regulatory, economic, environmental, and energy aspects of the rule that might suggest a need to modify the rule. You may view all comments we receive before and after the closing date of the rule in the Rules Docket. We will file a report in the Rules Docket that summarizes each FAA contact with the public that concerns the substantive parts of this AD.

How can I be sure FAA receives my comment? If you want us to acknowledge the receipt of your comments, you must include a self-addressed, stamped postcard. On the postcard, write “Comments to Docket No. 2003-CE-09-AD.” We will date stamp and mail the postcard back to you.

Regulatory Impact

Does this AD impact various entities? These regulations will not have a substantial direct effect on the States, on the relationship between the national Government and the States, or on the distribution of power and responsibilities among the various levels of government. Therefore, FAA has determined that this final rule does not have federalism implications under Executive Order 13132.

Does this AD involve a significant rule or regulatory action? We have determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39 AIRWORTHINESS DIRECTIVES

1. The authority citation for part 39 continues to read as follows:

Authority: 49 U.S.C. 106(g), 40113, 44701.

2. FAA amends § 39.13 by removing Airworthiness Directive (AD) 2002-13-02, Amendment 39-12789 (67 FR 44024, July 1, 2002), and by adding a new AD to read as follows:

2003-06-01—Air Tractor, Inc.: Amendment 39 13088; Docket No. 2003-CE-09-AD; Supersedes AD 2002-13-02; Amendment 39-12789.

(a) What airplanes are affected by this AD? This AD applies to the following airplanes that are certificated in any category:

(1) Models AT-300, AT-301, AT-302, and AT-400A airplanes, all serial numbers, that have aluminum spar caps;

(2) Models AT-400 airplanes, serial numbers 400-0244 through 400-0415, that have aluminum spar caps; and

(3) Models AT-300 and AT-301 airplanes, all serial numbers that have aluminum spar caps and are or have been converted to turbine power.

(b) Who must comply with this AD? Anyone who wishes to operate any airplane identified in paragraph (a)(1), (a)(2), or (a)(3) of this AD must comply with this AD.

(c) What problem does this AD address? The actions specified by this AD are intended to detect and correct cracks in the wing centerline splice joint. If not detected and corrected, these cracks could eventually result in the wing separating from the airplane during flight.

(d) What must I do to address this problem? To address this problem, you must replace each wing lower spar cap in accordance with the applicable maintenance manual, as follows:

Affected airplanes | Compliance time
(1) For all affected Models AT-300 and AT-301 airplanes that incorporate reciprocating engines and incorporate the wing spar center splice joint modification in accordance with the following: | Upon the accumulation of 7,000 hours time-in-service (TIS) on either wing spar lower cap or within the next 25 hours TIS after April 4, 2003 (the effective date of this AD), whichever occurs later.
(i) Snow Engineering Co. Service Letter #55, Revised October 23, 2002; and
(ii) Snow Engineering Co. Service Letter #70, Revised October 23, 2002.
(2) For all affected Models AT-300 and AT-301 airplanes that incorporate reciprocating engines and do not incorporate the wing spar center splice joint modification | Upon the accumulation of 5,000 hours TIS on either wing spar lower cap or within the next 25 hours TIS after April 4, 2003 (the effective date of this AD), whichever occurs later.
(i) The wing spar center splice joint modification may be incorporated on these airplanes to allow continued operation to 7,000 hours TIS as specified in paragraph (d)(1) of this AD
(ii) Use the service information specified in paragraphs (d)(1)(i) and (d)(1)(ii) of this AD to accomplish this modification.
(3) For all affected AT-302, AT-400, and AT-400A airplanes with aluminum spar caps; and all affected Models AT-300 and AT-301 airplanes that incorporate aluminum spar caps and are or have been converted to turbine power. Snow Engineering Co. Service Letter #226, dated December 17, 2002, includes information on these airplanes. | Upon the accumulation of 4,450 hours TIS on either wing spar lower cap or within the next 25 hours TIS after April 4, 2003 (the effective date of this AD), whichever occurs later.

(e) May I repetitively inspect the wing lower spar caps instead of replacing them? You may use the procedures in Snow Engineering Process Specification Number 197, Revised June 4, 2002; and Snow Engineering Co. Service Letter #220, dated December 17, 2002, to repetitively inspect the wing spar lower caps. In order to utilize this option, you must order parts from the factory and schedule the replacement through Air Tractor and inspect as follows:

(1) For any affected reciprocating engine powered airplane: initially inspect at the applicable compliance time in paragraph (d)(1) or (d)(2) of this AD and repetitively inspect thereafter at intervals not to exceed 300 hours TIS. If the airplane was previously inspected in accordance with Snow Engineering Co. Process Specification Number 197, then you can take credit for that inspection and inspect at 300-hour TIS intervals thereafter. You must apply any previous inspections toward the 900-hour TIS requirement in paragraph (e)(1)(iii) of this AD. Replace the wing spar lower caps prior to further flight after whichever of the following occurs first:

(i) The date of the scheduled replacement;

(ii) Cracks are found during any inspection allowed by paragraph (e) of this AD; or

(iii) Upon accumulating 900 hours TIS after the initial inspection accomplished in accordance with paragraph (e)(1) of this AD.

(2) For any affected turbine engine powered airplane: initially inspect at the compliance time in paragraph (d)(3) of this AD and repetitively inspect thereafter at intervals not to exceed 300 hours TIS. If the airplane was previously inspected in accordance with Snow Engineering Co. Process Specification Number 197, then you can take credit for that inspection and inspect at 300-hour TIS intervals thereafter. You must apply any previous inspections toward the 600-hour TIS requirement in paragraph (e)(2)(iii) of this AD. Replace the wing spar lower caps prior to further flight after whichever of the following occurs first:

(i) The date of the scheduled replacement;

(ii) Cracks are found during any inspection allowed by paragraph (e) of this AD; or

(iii) Upon accumulating 600 hours TIS after the initial inspection required by paragraph (e)(2) of this AD.

(f) Are there other requirements of this AD that I need to accomplish? In addition to the replacement and optional inspection requirements of this AD, you must report the results to FAA of any inspection required by this AD where a crack is found.

(1) Submit this report within 10 days after the inspection or within 10 days after April 4, 2003 (the effective date of this AD), whichever occurs later.

(2) Use the form (Figure 1 of this AD) and submit it to FAA, Fort Worth Airplane Certification Office, 2601 Meacham Boulevard, Fort Worth, Texas 76193-0150; telephone: (817) 222-5156; facsimile: (817) 222-5960.

(3) The Office of Management and Budget (OMB) approved the information collection requirements contained in this regulation under the provisions of the Paperwork Reduction Act of 1980 (44 U.S.C. 3501 et seq.) and assigned OMB Control Number 2120-0056.

AD2003-06-01 INSPECTION REPORT

1. Inspection Performed By: | 2. Phone:
3. Aircraft Model: | 4. Aircraft Serial Number:
5. Engine Model Number: | 6. Aircraft Total TIS:
7. Wing Total TIS: | 8. Lower Spar Cap TIS:
9. Has the lower spar cap been inspected before? (Eddy-Current, Dye Penetrant, Magnetic Particle, ☐ Yes ☐ No | 9a. If yes, Date: XXXX Inspection Method: XXXX Lower Spar Cap TIS: XXXX Cracks found? ☐ Yes ☐ No
10. Has there been any major repaair or alteration performed to the spar cap? ☐ Yes ☐ No | 10a. If yes, specify (Description and TIS)
11. Date of AD inspection: XXXX
12. Inspection Results: Were any cracks found? ☐ Yes ☐ No | 12a. If yes, Crack #1 ☐ Left Hand ☐ Right Hand Crack #2 ☐ Left Hand ☐ Right Hand
12b. Reference Location(s) by Crack Number: 4-Bolt Joint 5-Bolt Joint ☐ Outermost Hole ☐ Outermost Hole ☐ 2nd Outermost Hole | 12c. Crack Size Crack # 1 Length/Depth XXXX Crack # 2 Length/Depth XXXX

Additional Description/Comments:

Return to: Manager, Fort Worth ACO, ASW-150, 2601 Meacham Blvd., Fort Worth, TX 76193-0150; or fax to (817) 222-5960

Figure 1 of this AD

(g) Can I comply with this AD in any other way? You may use an alternative method of compliance or adjust the compliance time if:

(1) Your alternative method of compliance provides an equivalent level of safety; and

(2) The Manager, Fort Worth Airplane Certification Office (ACO), approves your alternative. Submit your request through an FAA Principal Maintenance Inspector. The inspector may add comments before sending it to the Manager, Fort Worth ACO.

(3) Alternative methods of compliance approved in accordance with AD 2002-13-02, which is superseded by this AD, are not approved as alternative methods of compliance with this AD.

Note: This AD applies to each airplane identified in paragraphs (a)(1), (a)(2), and (a)(3) of this AD, regardless of whether it has been modified, altered, or repaired in the area subject to the requirements of this AD. For airplanes that have been modified, altered, or repaired so that the performance of the requirements of this AD is affected, the owner/operator must request approval for an alternative method of compliance in accordance with paragraph (g) of this AD. The request should include an assessment of the effect of the modification, alteration, or repair on the unsafe condition addressed by this AD; and, if you have not eliminated the unsafe condition, specific actions you propose to address it.

(h) What if I need to fly the airplane to another location to comply with this AD? The FAA can issue a special flight permit under §§ 21.197 and 21.199 of the Federal Aviation Regulations (14 CFR 21.197 and 21.199) to operate your airplane to a location where you can accomplish the requirements of this AD provided that the following is adhered to:

(1) Operate in day visual flight rules (VFR) only.

(2) Ensure that the hopper is empty.

(3) Limit airspeed to 135 miles per hour (mph) indicated airspeed (IAS).

(4) Avoid any unnecessary g-forces.

(5) Avoid areas of turbulence.

(6) Plan the flight to follow the most direct route.

(i) Are any service bulletins incorporated into this AD by reference? Actions required by this AD must be done in accordance with Snow Engineering Co. Service Letter #55, Revised October 23, 2002; Snow Engineering Co. Service Letter #70, Revised October 23, 2002; Snow Engineering Co. Service Letter #226, dated December 17, 2002; Snow Engineering Process Specification Number 197, Revised June 4, 2002; and Snow Engineering Co. Service Letter #220, dated December 17, 2002. The Director of the Federal Register approved this incorporation by reference under 5 U.S.C. 552(a) and 1 CFR part 51. You may get copies from Air Tractor, Inc., P.O. Box 485, Olney, Texas 76374. You may view copies at FAA, Central Region, Office of the Regional Counsel, 901 Locust, Room 506, Kansas City, Missouri, or at the Office of the Federal Register, 800 North Capitol Street, NW., suite 700, Washington, DC.

(j) Does this AD action affect any existing AD actions? This amendment supersedes AD 2002-13-02, Amendment 39-12789.

(k) When does this amendment become effective? This amendment becomes effective on April 4, 2003.

Issued in Kansas City, Missouri, on March 11, 2003.
David R. Showers,
Acting Manager, Small Airplane Directorate, Aircraft Certification Service.

[FR Doc. 03-6262 Filed 3-18-03; 8:45 am]

BILLING CODE 4910-13-P